FEDERAL COMMUNICATIONS COMMISSION

Agency Information Collection Activities; Proposed Collection; Comment Response

Note: On Thursday, September 25, 2001, this information collection FR 01-23972 appeared at 66 FR 49021-49022. Due to miscalculations in various sections of that document the corrected version is being reprinted in its entirety.

AGENCY: Federal Communications Commission (FCC).

Notice of Public Information Collection(s) being Reviewed by the Federal Communications Commission.

SUMMARY: Due to miscalculations in the reporting of the number of respondents and of the associated response time that they would need in order to meet the requirements in this information collection, the FCC is withdrawing the Notice which published on September 25, 2001 (66 FR 49021). The FCC has corrected the miscalculations, and is hereby instituting a second comment period.

DATES: Written comments should be submitted on or before December 24, 2001. If you anticipate that you will be submitting comments, but find it difficult to do so within the period of time allowed by this notice, you should advise the contact listed below as soon as possible.

ADDRESSES: Direct all comments to Judy Boley, Federal Communications Commission, Room 1-C804, 445 12th Street, SW, Washington, DC 20554, or via the Internet to jboley@fcc.gov.

FOR FURTHER INFORMATION CONTACT: For additional information or copies of the information collection(s) contact Judy Boley at 202-418-0214 or via the Internet at jboley@fcc.gov.

SUPPLEMENTARY INFORMATION: OMB Control No.: 3060-0291.

Title: Interconnected Systems.

Form No.: N/A.

Type of Review: Revision of a currently approved collection.

Respondents: Business or other for profit, not-for-profit institutions, and state, local or tribal government.

Number of Respondents: 12,509.

Estimated Time Per Response: .25 hours for 12,405 responses and 2 hrs. for 104 responses.

Frequency of Response: On occasion and annual reporting requirements, and recordkeeping requirement.

Total Annual Burden: 3,309 hours.

Needs and Uses: This rule section allows commercial and private land mobile radio licensees to use common point telephone interconnection with telephone service costs distributed on a non-profit cost sharing basis. Records of such arrangements must be placed in the licensee's station file and made available to participants in the sharing arrangement and the Commission upon request.

Federal Communications Commission.
Magalie Roman Salas,
Secretary.

[FR Doc. 01-26843 Filed 10-24-01; 8:45 am]

BILLING CODE 6712-01-P